DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of six individuals that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On January 25, 2018, OFAC determined that the property and interests in property subject to U.S. jurisdiction of the following persons are blocked under the relevant sanctions authority listed below.

Individuals:

1. POPALZAI, Hafiz Mohammed, Chaman, Balochistan, Pakistan; DOB 1967 to 1969; nationality Afghanistan; Gender Male (individual) [SDGT] (Linked To: TALIBAN; Linked To: ISHAKZAI, Gul Agha).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

Also designated pursuant to section 1(c) of Executive Order 13224 of September 23, 2001, “Blocking Property and Prohibiting Transactions With Persons Who Commit, Threaten to Commit, or Support Terrorism” (E.O. 13224) for acting for or on behalf of GUL AGHA ISHAKZAI, an individual determined to be subject to E.O. 13224.

2. MUHAMMAD, Faqir (a.k.a. MOHAMMAD, Faqir; a.k.a. MUHAMMAD, Faqeer; a.k.a. ZEYAR, Faqir Mohammad), Bannu, Pakistan; Lahore, Pakistan; DOB 1968; POB North Waziristan Agency, Pakistan; alt. POB Federally Administered Tribal Areas, Pakistan; alt. POB Khowst Province, Afghanistan; nationality Pakistan; Gender Male (individual) [SDGT] (Linked To: HAQQANI NETWORK).

Designated pursuant to section 1(c) of Executive Order 13224 of September 23, 2001, “Blocking Property and Prohibiting Transactions With Persons Who Commit, Threaten to Commit, or Support Terrorism” (E.O. 13224) for acting for or on behalf of the HAQQANI NETWORK, an entity determined to be subject to E.O. 13224.

3. HAMIDI, Gula Khan (a.k.a. HAMEEDI, Gula Khan; a.k.a. HAMIDI, Gul Muhammad), Afghanistan; Istanbul, Turkey; DOB 1976; POB Afghanistan; nationality Afghanistan; Gender Male; Passport OR944957 (Afghanistan); Identification Number 99652828346; alt. Identification Number A387489 (individual) [SDGT] (Linked To: HAQQANI NETWORK).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, the HAQQANI NETWORK, an entity determined to be subject to E.O. 13224.

4. SANI, Abdul Samad (a.k.a. SANI, Mullah Samad; a.k.a. SANI, Samad; a.k.a. “Haji Nika”; a.k.a. “Haji Nika Ishaqzai”; a.k.a. “Haji Salani”), Quetta, Pakistan; DOB 1960 to 1962; POB Band-e-Temor, Maiwand District, Kandahar Province, Afghanistan; nationality Afghanistan; alt. nationality Pakistan; Gender Male (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

5. INAYATULLAH (a.k.a. ENAYATULLAH, Maulawi; a.k.a. FATEHULLAH, Mullah; a.k.a. “Ghowya”), Pakistan; DOB 1972; POB Chahar Darah District, Kunduz Province, Afghanistan; Gender Male; Maulawi (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

6. ABDUL BASEER, Abdul Qadeer Basir (a.k.a. AHMAT, Abdul Qadir; a.k.a. BASIR, Abdul Qadir; a.k.a. HAQQANI, Abdul Qadir; a.k.a. QADIR, Abdul; a.k.a. “Nasibullah”), Peshawar, Pakistan; DOB 1964; POB Nangarhar Province, Afghanistan; nationality Afghanistan; Gender Male; Passport D000974 (Afghanistan) (individual) [SDGT] (Linked To: TALIBAN).

Designated pursuant to section 1(c) of Executive Order 13224 of September 23, 2001, “Blocking Property and Prohibiting Transactions With Persons Who Commit, Threaten to Commit, or Support Terrorism” (E.O. 13224) for acting for or on behalf of the TALIBAN, an entity determined to be subject to E.O. 13224.

Dated: January 25, 2018.
John E. Smith,
Director, Office of Foreign Assets Control.

[FR Doc. 2018-01842 Filed 1-30-18; 8:45 am]

BILLING CODE 4810-AL-P